FEDERAL COMMUNICATIONS COMMISSION

47 CFR Part 73

[DA 03-2093; MB Docket No. 03-143, RM-10726; MB Docket No. 03-144, RM-10733; MB Docket No. 03-145, RM-10730; MB Docket No. 03-146, RM-10728]

Radio Broadcasting Services; Cove, AR, Gunnison, CO, Ridgecrest, CA, Robert Lee, TX

AGENCY: Federal Communications Commission.

ACTION: Proposed rule.

SUMMARY: This document proposes four new allotments in Cove, Arkansas, Gunnison, Colorado, Ridgecrest, California, and Robert Lee, Texas. The Audio Division requests comment on a petition filed by Charles Crawford proposing the allotment of Channel 232A at Cove, Arkansas, as the community's first local aural transmission service. Channel 232A can be allotted to Cove in compliance with the Commission's minimum distance separation requirements with a site restriction of 14.9 kilometers (9.2 miles) southwest to avoid a short-spacing to the license site of Station KOLX, Channel 233C2, Barling, AR. The reference coordinates for Channel 232A at Cove are 34-22-17 North Latitude and 94-33-12 West Longitude. See Supplementary Information, infra.

DATES: Comments must be filed on or before August 22, 2003, and reply comments on or before September 8, 2003.

ADDRESSES: Federal Communications Commission, 445 Twelfth Street, SW., Washington, DC 20554. In addition to filing comments with the FCC, interested parties should serve the petitioner, his counsel, or consultant, as follows: Charles Crawford, 4553 Bordeaux Avenue, Dallas, TX 75205, Dana J. Puopolo, 2134 Oak Street, Unit C, Santa Monica, CA 90405, Linda A. Davidson, 2134 Oak Street, Unit C, Santa Monica, CA 90405, and Katherine Pyeatt, 6655 Aintree Circle, Dallas, TX 75214.

FOR FURTHER INFORMATION CONTACT: Rolanda F. Smith, Media Bureau, (202) 418-2180.

SUPPLEMENTARY INFORMATION: This is a synopsis of the Commission's Notice of Proposed Rule Making, MB Docket Nos. 03-143, 03-144, 03-145, 03-146, adopted June 30, 2003 and released July 1, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC, 20554, telephone 202-863-2893, facsimile 202-863-2898, or via e-mail qualexint@aol.com.

The Audio Division requests comments on a petition filed by Dana J. Puopolo proposing the allotment of Channel 299C3 at Gunnison, CO, as the community's fourth local aural transmission service. Channel 299C3 can be allotted to Gunnison in compliance with the Commission's minimum distance separation requirements with a site restriction of 19.5 kilometers (12.1 miles) northeast to avoid a short-spacing to the license site of Station KBKL, Channel 300C, Grand Junction, CO. The reference coordinates for Channel 299C3 at Gunnison are 38-40-48 North Latitude and 106-46-48 West Longitude.

The Audio Division requests comments on a petition filed by Linda D. Davidson proposing the allotment of Channel 229A at Ridgecrest, CA, as the community's third FM local aural transmission service. Channel 229A can be allotted to Ridgecrest in compliance with the Commission's minimum distance separation requirements at city reference coordinates. The reference coordinates for Channel 229A at Ridgecrest are 35-37-30 North Latitude and 117-40-12 West Longitude.

The Audio Division requests comments on a petition filed by Katherine Pyeatt proposing the allotment of Channel 289A at Robert Lee, Texas, as the community's first local aural transmission service. Channel 289A can be allotted to Robert Lee in compliance with the Commission's minimum distance separation requirements with a site restriction of 14.3 kilometers (8.9 miles) north to avoid a short-spacing to the vacant allotment site of Channel 289C1, Ozona, Texas. The coordinates for Channel 289A at Robert Lee are 32-00-56 North Latitude and 100-26-20 West Longitude. Since Robert Lee is located within 320 kilometers (199 miles) of the U.S.-Mexican border, concurrence of the Mexican government has been requested. Provisions of the Regulatory Flexibility Act I of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Arkansas, is amended by adding Cove, Channel 232A.

3. Section 73.202(b), the Table of FM Allotments under California, is amended by adding Channel 229A at Ridgecrest.

4. Section 73.202(b), the Table of FM Allotments under Colorado, is amended by adding Channel 299C3 at Gunnison.

5. Section 73.202(b), the Table of FM Allotments under Texas, is amended by adding Robert Lee, Channel 289A.

Federal Communications Commission.
John A. Karousos,
Assistant Chief, Audio Division, Media Bureau.

[FR Doc. 03-18227 Filed 7-17-03; 8:45 am]

BILLING CODE 6712-01-P